DEPARTMENT OF ENERGY

[Docket No. EA-206-A]

Application To Export Electric Energy; Frontera Generation Limited Partnership and TECO EnergySources, Inc. for Transfer of Authorization

AGENCY: Office of Fossil Energy, DOE.

ACTION: Notice of application.

SUMMARY: Frontera Generation Limited Partnership (Frontera and TECO EnergySource, Inc. (TES) have jointly applied to transfer, from Frontera to TES, Frontera's authority to transmit electric energy from the United States to Mexico pursuant to section 202(e) of the Federal Power Act.

DATES: Comments, protests or requests to intervene must be submitted on or before July 9, 2002.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-6667.

SUPPLEMENTARY INFORMATION: Exports of electricity from the United States to a foreign country are regulated and require authorization under section 202(e) of the Federal Power Act (FPA) (16 U.S.C. 824a(e)).

On July 12, 1999, in Presidential Permit PP-206, the Office of Fossil Energy (FE) of the Department of Energy (DOE) authorized Frontera to construct, operate, maintain and connect electric transmission facilities across the U.S. border with Mexico. At full build-out, the authorized facilities are to consist of approximately 2.0 miles of double circuit 230-kV electric transmission line. However, the Order authorized Frontera to construct the facilities using a phased approach consisting initially of a single circuit 138-kV transmission line (current existing facilities). In a related proceeding, on July 20, 1999, in Docket EA-206, FE authorized Frontera to transmit electric energy from the United States to Mexico using the electric transmission facilities authorized in PP-206.

At that time Frontera, and its general partner, CSW Frontera GP II, were wholly-owned subsidiaries of CSW Energy, Inc., a Texas corporation, involved in the non-regulated generation and sale of electric power. On March 15, 2001, the partnership interests of Frontera were transferred from CSW Frontera GP II, Inc. and CSW Frontera LP II, Inc. to TPS Tejas GP, LLC and TPS Tejas LP, LLC; these entities are in turn each wholly owned subsidiaries of TPS Holdings, Inc., a Florida corporation which itself is a wholly owned subsidiary of TECO Power Services Corporation. TES is also a wholly-owned subsidiary of TPS.

On May 21, 2002, Frontera and TES jointly filed to have Frontera's authority to export electric energy generated at the Frontera powerplant in Mission, Texas, to Comision Federal de Electrcidad (CFE, the national electric utility of Mexico) transferred to TES. The applicants made this request because they contemplate retail sales of electric energy to one or more entities in Mexico which TES, but not Frontera, may make. The requested transfer of authorization is to enable TES to export electricity to Mexico using the transmission facilities that were authorized by Presidential Permit PP-206.

The applicants have requested expedited processing of its application so that electric power exports currently being negotiated can meet the condition precedent to the power sales, that is, DOE approval of authorization transfer. Accordingly, DOE has set a 15-day comment period for this proceeding.

Procedural Matters

Any person desiring to become a party to this proceeding or to be heard by filing comments or protests to this application should file a petition to intervene, comment or protest at the address provided above in accordance with section 385.211 or 385.214 of the FERC's Rules of Practice and Procedures (18 CFR 385.211, 385.214). Fifteen copies of each petition and protest should be filed with the DOE on or before the date listed above.

Comments on the application to transfer the export authorization from Frontera to TES should be clearly marked with Docket EA-268. Additional copies are to be filed directly with David A. Crabtree, Director, Market Design and Regulatory Analysis, TECO EnergySource, Inc., P.O. Box 111, 702 North Franklin Street, Tampa, FL 33602 AND Glenn J. Berger, Skadden, Arps, Slate, Meagher, Flom LLP, 1440 New York Avenue, NW, Washington, DC 20005-2111.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on June 19, 2002.
Anthony J. Como,
Deputy Director, Electric Power Regulation, Office of Coal & Power Import/Export, Office of Coal & Power Systems, Office of Fossil Energy.

[FR Doc. 02-15858 Filed 6-21-02; 8:45 am]

BILLING CODE 6450-01-P